NATIONAL CREDIT UNION ADMINISTRATION

Sunshine Act Meeting

It has been determined by the National Credit Union Administration Board that it will be necessary to change the time of the previously announced closed Board meeting (Federal Register, Vol. 69, No. 70, page 19240, April 12, 2004) scheduled for Thursday, April 15, 2004 at 11:30 a.m. The meeting will now be held at 9 a.m. Earlier announcement of this change was not possible.

For Further Information Contact: Becky Baker, Secretary of the Board, Telephone (703) 518-6304.

Becky Baker,
Secretary of the Board.

[FR Doc. 04-8690 Filed 4-15-04; 8:45 am]

BILLING CODE 7535-01-M